NUCLEAR REGULATORY COMMISSION

[NRC-2018-0024]

Fire Protection for Nuclear Power Plants

AGENCY: Nuclear Regulatory Commission.

ACTION: Regulatory guide; revision.

SUMMARY: The U.S. Nuclear Regulatory Commission (NRC) is issuing Revision 3 to Regulatory Guide (RG) 1.189, “Fire Protection for Nuclear Power Plants.” Revision 3 of RG 1.189 includes administrative changes involving editorial corrections that make the document consistent with existing policy. None of the revisions involve changes to the staff regulatory positions. This guide describes a method that the NRC staff considers acceptable to meet regulatory requirements for fire protection in nuclear power plants.

ADDRESSES: Please refer to Docket ID NRC-2018-0024 when contacting the NRC about the availability of information regarding this document. You may obtain publicly-available information related to this document using any of the following methods:

• Federal Rulemaking Website: Go to http://www.regulations.gov and search for Docket ID NRC-2018-0024. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. RG 1.189 is available at ADAMS Accession No. ML17340A875.

• NRC's Public Document Room: You may examine and purchase copies of public documents at the NRC's Public Document Room O1-F21, One White Flint North, 11555 Rockville Pike, Rockville, Maryland 20852. Regulatory guides are not copyrighted, and NRC approval is not required to reproduce them.

FOR FURTHER INFORMATION CONTACT: Daniel Frumkin, Office of Nuclear Reactor Regulations, telephone: 301-415-2280, email: Daniel.Frumkin@nrc.gov; or Stanley Gardocki, Office of Nuclear Regulatory Research, telephone: 301-415-1067, email: Stanley.Gardocki@nrc.gov. Both are staff members of the U.S. Nuclear Regulatory Commission, Washington, DC 20555-0001.

SUPPLEMENTARY INFORMATION:

I. Discussion

The NRC is issuing a revision to an existing guide in the NRC “Regulatory Guide” series. Regulatory guides were developed to describe and make available to the public information methods that are acceptable to the NRC staff for implementing specific parts of the agency's regulations, techniques that the staff uses in evaluating specific problems or postulated accidents, and data that the staff needs in its review of applications for permits and licenses.

The NRC is issuing Revision 3 of RG 1.189 directly as a final RG, because the changes between Revision 2 and Revision 3 are administrative and non-substantive. Revision 3 of RG 1.189 also updated the guide to the current program guidance for RGs. The NRC added language to Section 1, “Fire Protection Program,” to clarify the primary objectives of fire protection plans.

Since the issuance of Revision 2 of RG 1.189 in 2009, the NRC issued a Regulatory Issuance Summary to inform licensees that Inspection Manual Part 9900, Technical Guidance (TG 9900), “Operability Determinations & Functionality Assessments for Resolution of Degraded and Nonconforming Conditions Adverse to Quality and Safety,” was reissued as Inspection Manual Chapter (IMC) 0326, “Operability Determinations and Functionality Assessments for Conditions to Quality or Safety,” dated January 31, 2014. Revision 3 of RG 1.189 now includes a reference to IMC 0326 (see Section 1.5, “Compensatory Measures”).

Revision 3 of RG 1.189 also corrects typographic errors that previously appeared in Section 1.7.7, “Nonconforming Items,” Section 1.7.4, “Inspection,” Section 2.1.1, “Transient Fire Hazards,” Section 3.2.1, “Fire Protection Water Supply,” and Section 3.2.3, “Fire Mains.” Previously, these errors occurred during publishing of the final regulatory guide, when several paragraphs were incorrectly indented, resulting in incorrect sub-bullet numbering. These changes are intended to improve clarity and do not substantially alter the staff's regulatory guidance.

II. Backfitting and Issue Finality

Issuance of this final RG does not constitute backfitting as defined in section 50.109 of title 10 of the Code of Federal Regulations (10 CFR), (the Backfit Rule), and is not otherwise inconsistent with the issue finality provisions in 10 CFR part 52. The changes in Revision 3 of RG 1.189 are limited to editorial changes to improve clarity and correct errors. These changes do not fall within the kinds of agency actions that constitute backfitting or are subject to limitations in the issue finality provisions of 10 CFR part 52. Accordingly, the NRC did not address the Backfit Rule or issue finality provisions of 10 CFR part 52.

III. Congressional Review Act

Revision 3 of Regulatory Guide 1.189 is not a rule as defined in the Congressional Review Act (5 U.S.C. 801-808).

IV. Submitting Suggestions for Improvement of Regulatory Guides

Revision 3 of RG 1.189 is being issued without public comment. However, a member of the public may, at any time, submit suggestions to the NRC for improvement of existing RGs or for the development of new RGs to address new issues. Suggestions can be submitted on the NRC's public website at http://www.nrc.gov/reading-rm/doc-collections/reg-guides/contactus.html. Suggestions will be considered in future updates and enhancements to the “Regulatory Guide” series.

Dated at Rockville, Maryland, this 7th day of February 2018.
For the Nuclear Regulatory Commission.
Thomas H. Boyce,
Chief, Regulatory Guidance and Generic Issues Branch, Division of Engineering, Office of Nuclear Regulatory Research.

[FR Doc. 2018-02870 Filed 2-12-18; 8:45 am]

BILLING CODE 7590-01-P